NATIONAL SCIENCE FOUNDATION

Sunshine Act Meetings

FEDERAL REGISTER CITATION OF PREVIOUS ANNOUNCEMENT: The meeting was previously noticed at 89 FR 41477 on May 13, 2024.

PREVIOUSLY ANNOUNCED TIME AND DATE OF THE MEETING: Wednesday, May 15, 2024, from 4:00-6:00 p.m. EDT.

CHANGES IN THE MEETING: This meeting is CANCELLED.

CONTACT PERSON FOR MORE INFORMATION: Point of contact for this meeting is: Chris Blair, cblair@nsf.gov, 703/292-7000. Meeting information and updates may be found at www.nsf.gov/nsb.

Ann E. Bushmiller,
Senior Counsel to the National Science Board Office.

[FR Doc. 2024-10887 Filed 5-14-24; 4:15 pm]

BILLING CODE 7555-01-P